DEPARTMENT OF THE INTERIOR

National Park Service

[NPS-WASO-NAGPRA-NPS0034424; PPWOCRADN0-PCU00RP14.R50000]

Notice of Inventory Completion: University of Alabama Museums, Tuscaloosa, AL

AGENCY: National Park Service, Interior.

ACTION: Notice.

SUMMARY: The University of Alabama Museums has completed an inventory of human remains and associated funerary objects from the Moundville archeological site (1Tu500) in Hale County, AL, as well as adjacent archeological sites in Hale and Tuscaloosa Counties, AL. In consultation with the appropriate Indian Tribes, the University of Alabama Museums has determined, pursuant to NAGPRA, that there is a cultural affiliation between these human remains and associated funerary objects and the present-day Muskogean-speaking Indian Tribes. Lineal descendants or representatives of any Indian Tribe or Native Hawaiian organization not identified in this notice that wish to request transfer of control of these human remains and associated funerary objects should submit a written request to the University of Alabama Museums. If no additional requestors come forward, transfer of control of the human remains and associated funerary objects to the Indian Tribes listed in this notice may proceed.

DATES: Lineal descendants or representatives of any Indian Tribe or Native Hawaiian organization not identified in this notice that wish to request transfer of control of these human remains and associated funerary objects should submit a written request with information in support of the request to the University of Alabama Museums at the address in this notice by September 29, 2022.

FOR FURTHER INFORMATION CONTACT: Dr. William Bomar, Executive Director, University of Alabama Museums, Box 870340, Tuscaloosa, AL 35487, telephone (205) 348-7551, email bbomar@ua.edu.

SUPPLEMENTARY INFORMATION: Notice is here given in accordance with the Native American Graves Protection and Repatriation Act (NAGPRA), 25 U.S.C. 3003, of the completion of an inventory of human remains and associated funerary objects under the control of the University of Alabama Museums, Tuscaloosa, AL. The human remains and associated funerary objects were removed from sites in Hale and Tuscaloosa Counties, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Alabama Museums professional staff in consultation with representatives of the Alabama-Quassarte Tribal Town; Coushatta Tribe of Louisiana; Seminole Tribe of Florida (previously listed as Seminole Tribe of Florida (Dania, Big Cypress, Brighton, Hollywood, & Tampa Reservations)); The Chickasaw Nation; The Choctaw Nation of Oklahoma; The Muscogee (Creek) Nation; and The Seminole Nation of Oklahoma with letters of support from the Alabama-Coushatta Tribe of Texas (previously listed as Alabama-Coushatta Tribes of Texas) and the Jena Band of Choctaw Indians.

History and Description of the Remains

The human remains and associated funerary objects from Moundville and other sites in Hale and Tuscaloosa Counties, Alabama, that are in the possession of the University of Alabama Museums derive from various investigations and private collection donations primarily dating to the period 1930 to 2008. During its Native American occupation, the Moundville site and the surrounding area were inhabited by several thousand people in a relatively dense occupancy, and over a prolonged period of time. The large-scale excavations undertaken at Moundville, resulted in large numbers of human remains and associated funerary objects removed from their original burial locations, which are currently in the University's possession. The work of subsequent investigations at Moundville contributed to this number, as did excavations at associated sites in Hale and Tuscaloosa Counties, AL.

At an unknown date, human remains representing, at minimum, two individuals were removed from an unknown location in Hale County, AL. The collection contains no additional information as to the origin of the human remains and is simply designated as “1Ha.” Based on morphological characteristics identified through osteological analysis, the human remains are Native American. No known individuals are identified. No associated funerary objects are present.

In the 1930s, human remains representing, at minimum, nine individuals were excavated and removed from Site 1Ha7, the White site, as part of the Black Warrior River Basin Survey conducted by Walter B. Jones of the Alabama Museum of Natural History. The site consists of a mound and associated village with Late Woodland, Miller III and Mississippian, Moundville II phase occupations. No known individuals were identified. No associated funerary objects are present.

In the 1930s, human remains representing, at minimum, one individual were excavated and removed from Site 1Ha11, the Powers site, by the University of Alabama. The site includes evidence of Late Woodland, Miller III phase, and Mississippian occupations. No known individual was identified. The three associated funerary objects include bones and ceramics.

Beginning in 1949, and continuing as part of the program of field work and collections research on the Protohistoric period, human remains representing, at minimum, 33 individuals were excavated and removed from Site 1Ha19, the Big Prairie Creek site, under the direction of Cailup B. Curren, Jr. The work was carried out initially through the University of Alabama Department of Anthropology and subsequently through the University of Alabama Museums. The site is attributed to the Late Mississippian/Protohistoric and Moundville IV phase occupations. No known individuals were identified. The 43 lots of associated funerary objects include burial urns, ceramic vessels, ceramic sherds, lithics, faunal bones, daub, and shells.

In the 1930s and again in 1997, human remains representing, at minimum, 13 individuals were excavated and removed from Site 1Tu1, the Pride Place site. The site dates from Late Woodland, West Jefferson phase to the Moundville III phase. No known individuals were identified. The three lots of associated funerary objects include ceramic vessels, ceramic sherds, lithics, red ochre, discoidals, fired clay, sandstone fragments, and a large stone.

In 1932, human remains representing, at minimum, 16 individuals were excavated and removed from Site 1Tu2, the Snows Bend site, as part of the Black Warrior River Basin Survey. The site consists of a large village and is associated with an adjacent mound (Site 1Tu3). It dates to the Late Woodland West Jefferson and Mississippian Moundville II and III phases. No known individuals were identified. The eight lots of associated funerary objects include ceramic vessels and ceramic sherds.

Beginning in 1932 and continuing as part of the program of field work and collections research on the Protohistoric period, human remains representing, at minimum, 81 individuals were excavated and removed from Site 1Tu4, the Moody Slough site, under the direction of Cailup B. Curren, Jr. The work was carried out initially through the University of Alabama Department of Anthropology and subsequently through the University of Alabama Museums. The site is attributed to the Late Mississippian/Protohistoric and Moundville IV phase occupations. No known individuals were identified. The 69 lots of associated funerary objects include burial urns, faunal and botanical remains, pottery sherds, incised sandstone, shell ornaments, daub, and lithics.

Beginning in 1931-1932 and continuing as part of the program of field work and collections research on the Protohistoric period, human remains representing, at minimum, 26 individuals were excavated and removed from Site 1Tu5, the Lon Robertson site, under the direction of Cailup B. Curren, Jr. The work was carried out initially through the University of Alabama Department of Anthropology and subsequently through the University of Alabama Museums. Curren identified the site as 1Tu93/5, thereby combining two sites in his description. The site is attributed to the Late Mississippian/Protohistoric and Moundville IV phase occupations. No known individuals were identified. The one lot of associated funerary objects includes ceramic vessels, such as burial urns, and a stone axe.

In 1933, human remains representing, at minimum, eight individuals were excavated and removed from Site 1Tu20, the Barger Bluff Shelter site, as part of the Black Warrior River Basin Survey. The site, consisting of a shelter above the Black Warrior River, is likely related to Site 1Tu17, a Mississippian Stage occupation located on the terrace below it. No known individuals were identified. No associated funerary objects are present.

In the 1930s, human remains representing, at minimum, one individual were excavated and removed from Site 1Tu34, an unnamed site on the Black Warrior River. The site is believed to be related to the Moundville (1Tu500), Snows Bend (1Tu2), and 1Tu7 sites. No known individual was identified. No associated funerary objects are present.

Beginning in the 1930s and continuing as part of the program of field work and collections research on the Protohistoric period, human remains representing, at minimum, 15 individuals were excavated and removed from Site 1Tu42 (1Tu42/43), the Moon Lake site, under the direction of Cailup B. Curren, Jr. The work was carried out initially through the University of Alabama Department of Anthropology and subsequently through the University of Alabama Museums. The site consists of a Mississippian village (originally identified by Curren as the Wiggins site [1984] and denoted 1Tu43) and a mound (originally documented by Clarence B. Moore (1905) and denoted 1Tu42). Nine of the individuals were excavated and removed from the village area (1Tu43) and six were excavated and removed from the mound (1Tu42). No known individuals were identified. No associated funerary objects are present.

At an unknown date, human remains representing, at minimum, nine individuals were excavated and removed from Site 1Tu44 (also known as 1Tu346 and 1Tu45), the Jones Ferry site. This site was investigated by Clarence B. Moore in 1905 and documented by the University of Alabama in 1932. In 1979, it was reinvestigated as part of a University of Michigan survey. In the 1980s, it was further reinvestigated by Cailup B. Curren, Jr., at which time it was given the number 1Tu346. The site is comprised of a mound (1Tu44) and the associated village (1Tu45). It is attributed to the Late Woodland, West Jefferson phase and the subsequent Mississippian, Moundville I phase. No known individuals were identified. The three lots of associated funerary objects include ceramics, daub, animal bones, lithic debris, shells, and soil.

Beginning in 1933 and continuing as part of the program of field work and collections research on the Protohistoric period, human remains representing, at minimum, 49 individuals were excavated and removed from Site 1Tu49, the Fosters Ferry site, also known as the Baker site, under the direction of Cailup B. Curren, Jr. The work was carried out initially through the University of Alabama Department of Anthropology and subsequently through the University of Alabama Museums. The site is attributed to the Late Mississippian/Protohistoric and Moundville IV phase occupations. No known individuals were identified. The 16 lots of associated funerary objects include ceramic vessels and sherds, many of them attributable to burial urns.

Beginning in the 1930s and continuing as part of the program of field work and collections research on the Protohistoric period, human remains representing, at minimum, four individuals were excavated and removed from Site 1Tu93, an unnamed site on the Black Warrior River, under the direction of Cailup B. Curren, Jr. The work was carried out initially through the University of Alabama Department of Anthropology and subsequently through the University of Alabama Museums. Curren identified the site as 1Tu93/5, thereby combining two sites in his description. The site is attributed to the Late Mississippian/Protohistoric, Moundville IV phase occupations. No known individuals were identified. No associated funerary objects are present.

In 1936, human remains representing, at minimum, two individuals were excavated and removed by a member of the Pate family from Site 1Tu103, a feature he identified in a plowed field on a bend in the North River. No known individuals were identified. No associated funerary objects are present.

At an unknown date, human remains representing, at minimum, one individual buried in a ceramic urn were discovered and removed from Site 1Tu235, a plowed field on Big Sandy Creek near Moundville (1Tu500). The site was documented by Steve Wimberly in 1948. The urn indicates a Late Mississippian/Protohistoric, Moundville IV phase occupation. No known individual was identified. The one associated funerary object is the burial urn.

At an unknown date, human remains representing, at minimum, one individual were removed from Site 1Tu267 on the University of Alabama campus. The collection includes one proximal femur with no additional provenience information. No known individual was identified. No associated funerary objects are present.

In 1976, as part of the program of field work and collections research on the Protohistoric period, human remains representing, at minimum, 18 individuals were excavated and removed from Site 1Tu277 (also identified as 1Tu343), the Phillips site, under the direction of Cailup B. Curren, Jr. The work was carried out initially through the University of Alabama Department of Anthropology and subsequently through the University of Alabama Museums. The site is attributed to the Late Mississippian/Protohistoric and Moundville IV phase occupations. No known individuals were identified. The two associated funerary objects are two burial urns.

Sometime during the period 1977-2003, human remains representing, at minimum, one individual were excavated and removed from Site 1Tu338, an unnamed site located in Big Sandy Bottoms upstream of Moundville. The site was recorded in 1977 and investigated on multiple occasions by the University of Alabama and Panamerican Consultants until 2003. No known individual was identified. No associated funerary objects are present.

During a period from the 1930s to the late 1980s, human remains representing, at minimum, 9,954 individuals were excavated and removed from Site 1Tu500, the Moundville site, during various excavations, including field schools conducted by the University of Alabama, and in the course of efforts to stabilize the shoreline abutting the site. Moundville, a large mound complex on the banks of the Black Warrior River whose occupation spans the Late Woodland and the West Jefferson phase through the Moundville I, II, and III phases, and terminates in the Late Mississippian/Protohistoric Moundville IV phase, has been the subject of two centuries of archeological inquiry. No known individuals were identified. The 1,371 lots of associated funerary objects include pottery vessels, pottery sherds, greenstone celts, stone and copper discoidals, projectile points, beads, graphite, paint, and copper and stone ornaments. Of those lots, 318 lots are currently missing and 264 lots were stolen in 1980.

During the 2000-2003 Black Warrior Valley Survey, human remains representing, at minimum, one individual were excavated and removed from Site 1Tu876, the Fitts site, a small Mississippian farmstead. No known individual was identified. No associated funerary objects are present.

Determinations Made by the University of Alabama Museums

Officials of the University of Alabama Museums have determined that:

• Pursuant to 25 U.S.C. 3001(9), the human remains described in this notice represent the physical remains of 10,245 individuals of Native American ancestry.

• Pursuant to 25 U.S.C. 3001(3)(A), the 1,520 objects described in this notice are reasonably believed to have been placed with or near individual human remains at the time of death or later as part of the death rite or ceremony.

• Pursuant to 25 U.S.C. 3001(2), there is a relationship of shared group identity that can be reasonably traced between the Native American human remains and associated funerary objects and the Alabama-Coushatta Tribe of Texas (previously listed as Alabama-Coushatta Tribes of Texas); Alabama-Quassarte Tribal Town; Coushatta Tribe of Louisiana; Jena Band of Choctaw Indians; Seminole Tribe of Florida (previously listed as Seminole Tribe of Florida (Dania, Big Cypress, Brighton, Hollywood, & Tampa Reservations)); The Chickasaw Nation; The Choctaw Nation of Oklahoma; The Muscogee (Creek) Nation; and The Seminole Nation of Oklahoma (hereafter referred to as “The Tribes”).

Additional Requestors and Disposition

Lineal descendants or representatives of any Indian Tribe or Native Hawaiian organization not identified in this notice that wish to request transfer of control of these human remains and associated funerary objects should submit a written request with information in support of the request to Dr. William Bomar, Executive Director, University of Alabama Museums, Box 870340, Tuscaloosa, AL 35487, telephone (205) 348-7551, email bbomar@ua.edu, by September 29, 2022. After that date, if no additional requestors have come forward, transfer of control of the human remains and associated funerary objects to The Tribes may proceed.

The University of Alabama Museums is responsible for notifying The Tribes that this notice has been published.

Dated: August 24, 2022.
Melanie O'Brien,
Manager, National NAGPRA Program.

[FR Doc. 2022-18741 Filed 8-29-22; 8:45 am]

BILLING CODE 4312-52-P